ENVIRONMENTAL PROTECTION AGENCY

[FRL 9788-2; CERCLA-04-2013-3754]

Ward Transformer Superfund Site; Raleigh, Wake County, NC; Notice of Settlement

AGENCY: Environmental Protection Agency.

ACTION: Notice of settlement.

SUMMARY: Under 122(g)(4) of the Comprehensive Environmental Response, Compensation and Liability Act (CERCLA), the United States Environmental Protection Agency has entered into a settlement at the Ward Transformer Superfund Site located in Raleigh, Wake County, North Carolina. Under the terms of the De Minimis Landowner Settlement Agreement B&B Apartments, LLC, agrees to sell the property and B&B Apartments, LLC, and Estes Express Lines, Inc., agree to provide access, implement/comply with institutional controls, and exercise due care and cooperation for such time as they own or lease the property in exchange for the covenant not to sue and contribution protection provided in the Settlement Agreement.

DATES: The Agency will consider public comments on the settlement until April 5, 2013. The Agency will consider all comments received and may modify or withdraw its consent to the settlement if comments received disclose facts or considerations which indicate that the settlement is inappropriate, improper, or inadequate.

ADDRESSES: Copies of the settlement are available from EPA Region 4 contact Ms. Paula V. Painter. Submit your comments by Site name Ward Transformer Superfund Site by one of the following methods:

• www.epa.gov/region4/superfund/programs/enforcement/enforcement.html

• Email. Painter.Paula@epa.gov

• U.S. Environmental Protection Agency, Attn: Paula V. Painter, Superfund Division, 61 Forsyth Street SW., Atlanta, Georgia 30303.

FOR FURTHER INFORMATION CONTACT: Paula V. Painter at 404/562-8887.

Dated: February 12, 2013.
Anita L. Davis,
Chief, Superfund Enforcement & Information Management Branch, Superfund Division.

[FR Doc. 2013-05244 Filed 3-5-13; 8:45 am]

BILLING CODE P